DEPARTMENT OF THE INTERIOR

Geological Survey

[GX.CD00.B9510.00]

Proposed Information Collection: State Water Resources Research Institute Program; Annual Application and Reporting

AGENCY: United States Geological Survey (USGS), Interior.

ACTION: Notice of an extension of an information collection (1028-0097); request for comments.

SUMMARY: To comply with the Paperwork Reduction Act of 1995 (PRA), we are notifying the public that we will submit to OMB an information collection (IC) to renew approval of the paperwork requirements for “National Institutes for Water Resources (NIWR) USGS Competitive Grant Program.” This notice provides the public and other Federal agencies an opportunity to comment on the paperwork burden of this form. This collection is scheduled to expire on July 31, 2013.

DATES: You must submit comments on or before June 17, 2013.

ADDRESSES: Send your comments to the IC to David Govoni, Information Collections Clearance Officer, U.S. Geological Survey, 12201 Sunrise Valley Drive, MS 807, Reston, VA 20192 (mail); (703) 648-7195 (fax); or dgovoni@usgs.gov (email). Please reference Information Collection 1028-0097.

FOR FURTHER INFORMATION CONTACT: Earl Greene, Acting Chief, Office of External Research, U.S. Geological Survey, 5522 Research Park Drive, Baltimore, MD 21228, email: eagreene@usgs.gov.

SUPPLEMENTARY INFORMATION:

I. Abstract

The Water Resources Research Act of 1984, as amended (42 U.S.C. 10301 et seq.), authorizes a research institute water resources or center in each of the 50 states, the District of Columbia, Puerto Rico, the U.S. Virgin Islands, Guam, the Federated States of Micronesia, the Commonwealth of the Northern Marina Islands, and American Samoa. There are currently 54 such institutes, one in each state, the District of Columbia, Puerto Rico, the U.S. Virgin Islands, and Guam. The institute in Guam is a regional institute serving Guam, the Federated States of Micronesia, and the Commonwealth of the Northern Mariana Islands. Each of the 54 institutes submits an annual application for an allotment grant and provides an annual report on its activities under the grant. The State Water Resources Research Institute Program issues an annual call for applications from the institutes to support plans to promote research, training, information dissemination, and other activities meeting the needs of the States and Nation. The program also encourages regional cooperation among institutes in research into areas of water management, development, and conservation that have a regional or national character. The U.S. Geological Survey has been designated as the administrator of the provisions of the Act.

II. Data

OMB Control Number: 1028-0097.

Title: State Water Resources Research Institute Program Annual Application and Reporting.

Type of Request: Extension of a currently approved collection.

Affected Public: The state water resources research institutes authorized by the Water Resources Research Act of 1983, as amended, and listed at http://water.usgs.gov/wrri/institutes.html.

Respondent's Obligation: Mandatory (necessary to obtain benefits).

Frequency of Collection: Annually.

Estimated Number of Annual Respondents: We expect to receive 54 applications and award 54 grants per year.

Estimated Annual total Responses: 54.

Estimated Time per Response: 160 hours. This includes 80 hours per applicant to prepare and submit the annual application; and 80 hours (total) per grantee to complete the annual reports.

Annual Burden Hours: 8,640.

Public Disclosure Statement: The PRA (44 U.S.C. 3501, et seq.) provides that an agency may not conduct or sponsor and you are not required to respond to, a collection of information unless it displays a currently valid OMB control number. Until OMB approves a collection of information, you are not obligated to respond.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, email address, or other personal identifying information in your comment, you should be aware that your entire comment, including your personal identifying information, may be made publicly available at any time. While you can ask us in your comment to withhold your personal identifying information from public review, we cannot guarantee that it will be done.

Dated: April 8, 2013.
Earl A. Greene,
Acting Water Resources Research Act Program Coordinator.

[FR Doc. 2013-09088 Filed 4-17-13; 8:45 am]

BILLING CODE 4311-AM-P